DEPARTMENT OF COMMERCE

National Telecommunications and Information Administration

Public Meeting To Develop Global Positioning System/Ultrawideband Operational Scenarios

AGENCY: National Telecommunications and Information Administration, U.S. Department of Commerce.

ACTION: Notice of Public Meeting.

SUMMARY: The Office of Spectrum Management (OSM) of the National Telecommunications and Information Administration (NTIA) will host a series of public meetings to develop the operational scenarios to be considered in the assessment of potential interference to Global Positioning System (GPS) receivers from ultrawideband (UWB) transmission systems. Interested parties are invited to make presentations describing GPS/UWB operational scenarios they expect to be considered in the NTIA analysis.

DATES: The first meeting will be held from 9 a.m.-5 p.m., Thursday September 7, 2000.

ADDRESSES: The first meeting will be held at the U.S. Department of Commerce, Room 3407, 1401 Constitution Avenue, NW., Washington, DC 20230. The meeting will be open to the public. For updated information on this meeting, please see NTIA's homepage at <http://www.ntia.doc.gov/osmhome/uwbtestplan/gpstestfr.htm>.

FOR FURTHER INFORMATION CONTACT: Steve Jones, Office of Spectrum Management, telephone: (202) 482-2791; or electronic mail: <skjones@ntia.doc.gov>; or Ed Drocella, Office of Spectrum Management, telephone: (202) 482-2608; or electronic mail: <edrocella@ntia.doc.gov>.

Media inquiries should be directed to the Office of Public Affairs, National Telecommunications and Information Administration, at (202) 482-7002.

SUPPLEMENTARY INFORMATION: On August 14, 2000, the NTIA Measurement Plan To Determine The Potential Interference Impact To Global Positioning System Receivers From Ultrawideband Transmission Systems was published in the Federal Register. The measurements described in this document will not develop the operational scenarios or the associated link budgets. Rather, the measurements will define the maximum level of UWB emissions that can be tolerated at the input of each GPS receiver considered. The maximum tolerable UWB emission level will then be used in a separate link budget analysis for each specific UWB-to-GPS operational scenario identified to calculate the maximum permissible output power of a UWB transmission system, under given parameter combinations, that will ensure compatibility with GPS receivers. The operational scenarios will be dependent upon both existing and projected GPS and UWB applications and will take into consideration circumstances involving both single and multiple UWB transmission systems. For each application, a link budget will be developed under assumptions and/or known conditions that are defined by the particular operational scenario.

Public Participation: The first meeting is open to the public and is physically accessible to people with disabilities. To facilitate entry into the Department of Commerce building, please have a photo identification available and/or a U.S. Government building pass, if applicable. Any member of the public wishing to attend and requiring special services, such as sign language interpretation or other ancillary aids, should contact Steve Jones at least five (5) days prior to the meeting at telephone (202) 482-2791 or e-mail <skjones@ntia.doc.gov>.

Kathy D. Smith,
Chief Counsel.

[FR Doc. 00-22309 Filed 8-30-00; 8:45 am]

BILLING CODE 3510-60-P